DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Center for Economic Studies Research Proposal and Project Management System.

OMB Control Number: None.

Form Number(s): None.

Type of Request: New collection.

Burden Hours: 3,780.

Number of Respondents: 60.

Average Hours per Response: 63.

Needs and Uses: The U.S. Census Bureau through its network of Census Research Data Centers (RDCs) supports and encourages research activity using Census Bureau microdata to improve Census Bureau programs. The RDCs provide access to researchers, Federal agencies, and other institutions meeting the requirements of Title 13 United States Code, Section 23(c) to non-publicly available Census Bureau data files. The Center for Economic Studies operates the RDC system on behalf of the Census Bureau.

The objective of the Center for Economic Studies (CES) and the Research Data Centers (RDCs) is to increase the utility and quality of Census Bureau data products. The external research program supported by CES and the RDCs increases the quality and utility of Census data in several ways. First, access to microdata encourages knowledgeable researchers to become familiar with Census data products and Census collection methods. More importantly, providing qualified researchers access to confidential microdata enables research projects that would not be possible without access to respondent-level information. This increases the value of data that has been collected. Access to the microdata also allows for data linking not possible with aggregates, both cross-survey linkages and longitudinal linkages. These linkages leverage the value of preexisting data. Creative use of microdata can address important policy questions without the need for additional data collections.

The Census Bureau operates a network of RDCs at a dozen universities and research institutions across the country. These RDCs operate under joint project agreements with either a single institution or a consortium of institutions that provide space for researchers to access confidential Census Bureau data and other data provided by a variety of government and commercial sources under secure, controlled conditions that ensures compliance with Census Bureau data stewardship policies. The RDCs operate as an enterprise asset designed to facilitate external researcher access to confidential microdata and to foster collaboration between external and internal Census Bureau researchers.

Access to confidential data at an RDC by either external or internal researchers requires preparation and submission of a research proposal to CES by an individual or team of researchers. The proposal submission, review and approval process as well as project tracking is managed with an Internet based application called the CES Research Proposal and Project Management System (CMS). The CMS consists of several modules for accepting information, processing, storage, updating, and reporting.

Individuals first create a user account on the CMS. A template appears which requests contact information from the respondent, including name, mailing address, e-mail address, telephone, professional affiliation, and citizenship. Users may then create the various required proposal documents in CMS using the available templates.

The vast majority of users are academic research faculty at major U.S. universities or other types of research institutions such as the Urban Institute, Peterson Institute for International Economics, Rand Corporation, Public Policy Institute of California, National Bureau of Economic Research, and Resources for the Future. Scientific research typically results in papers presented at scientific conferences and published in peer reviewed academic journals, working paper series, monographs, and technical reports. The scientific community at large benefits from the additions to knowledge resulting from research with Census Bureau microdata. Results inform both scientific theory and public policy.

Affected Public: Not-for-profit institutions.

Frequency: One time.

Respondent's Obligation: Voluntary.

Legal Authority: Title 13 U.S.C., Section 23(c).

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: July 6, 2011.
Glenna Mickelson,
Management Analyst, Office of the Chief Information Officer.

[FR Doc. 2011-17274 Filed 7-8-11; 8:45 am]

BILLING CODE 3510-07-P